NUCLEAR REGULATORY COMMISSION

[NUREG-1600]

NRC Enforcement Policy

AGENCY: Nuclear Regulatory Commission.

ACTION: Policy statement.

SUMMARY: The Nuclear Regulatory Commission (NRC) is announcing its intent to use the NRC public Web site and the NRC's Agencywide Documents Access and Management System (ADAMS) to communicate its “General Statement of Policy and Procedure for NRC Enforcement Actions—Enforcement Policy,” to discontinue publication of the paper document, NUREG-1600, and to simplify the official policy statement title. The NRC is taking these actions because the policy statement is available electronically on the NRC public Web site and is widely known as the “NRC Enforcement Policy.”

DATES: Comments on this initiative may be submitted on or before April 15, 2005.

ADDRESSES: Submit written comments to: Michael T. Lesar, Chief, Rules and Directives Branch, Division of Administrative Services, Office of Administration, Mail Stop: T6D59, U. S. Nuclear Regulatory Commission, Washington, DC 20555-0001. Hand deliver comments to: 11555 Rockville Pike, Rockville, Maryland, between 7:30 a.m. and 4:15 p.m., Federal workdays. Copies of comments received may be examined at the NRC Public Document Room, Room O1F21, 11555 Rockville Pike, Rockville, MD. You may also e-mail comments to nrcrep@nrc.gov.

FOR FURTHER INFORMATION CONTACT: Renée Pedersen, Senior Enforcement Specialist, Office of Enforcement, U.S. Nuclear Regulatory Commission, Washington, DC 20555-0001, (301) 415-2742, e-mail rmp@nrc.gov.

SUPPLEMENTARY INFORMATION: The Commission first published its “General Statement of Policy and Procedure for NRC Enforcement Actions—Enforcement Policy,” (Enforcement Policy) on October 7, 1980 (45 FR 66754). The Policy was codified as Appendix C to Part 2 of Title 10 of the Code of Federal Regulations to provide widespread dissemination. However, the Enforcement Policy has always included a statement recognizing that it is a policy statement and not a regulation. An underlying basis of the Enforcement Policy reflected throughout it is that the determination of the appropriate sanction requires the exercise of discretion such that each action is tailored to the particular factual situation.

On June 30, 1995, the NRC announced that it was removing the Enforcement Policy from the Code of Federal Regulations (60 FR 34380). This action was part of an enforcement program review, to avoid any interpretation that the policy should be construed as a regulation. To continue to ensure widespread dissemination, the NRC published the Enforcement Policy in its NUREG-series publications as NUREG-1600 and continued to publish revisions to the Enforcement Policy in the Federal Register. NUREG-1600 was first published in July of 1995. The last complete revision that was issued as a NUREG-series publication (NUREG-1600) was dated May 1, 2000. However, the Enforcement Policy has been revised on multiple occasions (as published in the Federal Register) without being republished as a NUREG document.

The NRC maintains the current Enforcement Policy on its Web site at http://www.nrc.gov, select What We Do, Enforcement, then Enforcement Policy. The Enforcement Web site also includes a history of the Enforcement Policy by including and/or referencing the Federal Register notice for each policy revision since it was first published in 1980. This section of the Web site will continue to be updated with any future revisions to the Enforcement Policy.

Preparation and publication of the NUREG is costly and consumes resources, personnel, and paper. The Commission believes that widespread dissemination of the NRC's Enforcement Policy can now be accomplished more effectively and efficiently by posting it on the NRC public Web site and maintaining it in ADAMS. Continuing to publish material in hard copy when the information is currently and promptly available electronically is not consistent with the Congressional mandate to maximize the value of Information Technology acquisitions and the direction the NRC has taken with its implementation of ADAMS. The staff will continue to publish revisions to the Enforcement Policy in the Federal Register. Additionally, the staff will continue its practice of sending printed copies of the most current Enforcement Policy to those licensees and individuals being considered for significant enforcement action who may not have access to the Web site; and to any interested stakeholder upon request.

On July 13, 2000, the NRC made a similar announcement in the Federal Register proposing to discontinue publishing NUREG-0940, “Enforcement Actions: Significant Actions Resolved,” (65 FR 43383). The NRC only received comments supporting this initiative.

For the above reasons, the Commission believes that publication of NUREG-1600 is no longer needed. In addition, in keeping with plain English initiatives, the staff believes that it is appropriate to simplify the official title from, “General Statement of Policy and Procedure for NRC Enforcement Actions—Enforcement Policy,” to “NRC Enforcement Policy.”

Dated at Rockville, MD, this 10th day of March, 2005.
For the Nuclear Regulatory Commission.
Annette L. Vietti-Cook,
Secretary of the Commission.

[FR Doc. 05-5119 Filed 3-15-05; 8:45 am]

BILLING CODE 7590-01-P